DEPARTMENT OF STATE

[Public Notice 4865]

Shipping Coordinating Committee; Notice of Meeting

The Shipping Coordinating Committee will conduct an open meeting at 9:30 a.m. on Tuesday, November 16, 2004, in Room 2415, at U.S. Coast Guard Headquarters, 2100 2nd Street, SW., Washington, DC 20593-0001. The purpose of this meeting will be to finalize preparations for the 79th Session of the Maritime Safety Committee, and associated bodies of the International Maritime Organization (IMO), which is scheduled for December 1-10, 2004, at IMO Headquarters in London. At this meeting, papers received and the draft U.S. positions for the Maritime Safety Committee will be discussed. Among other things, the items of particular interest are:

—Adoption of amendments to SOLAS for voyage data recorders, bulk carrier safety, the International Code for Carrying Dangerous Chemicals in Bulk, company and owner identification numbers and fire safety.

—Large passenger ship safety.

—Measures to enhance maritime security.

—Goal-based new ship construction standards.

—Implementation of the revised STCW Convention.

—Reports of five subcommittees: Ship design and equipment, Flag State implementation, Safety of navigation, Stability, load lines and fishing vessel safety, Dangerous goods, solid cargoes and containers.

Members of the public may attend this meeting up to the seating capacity of the room. Interested persons may seek information by writing to Mr. Joseph J. Angelo, Commandant (G-MS), U.S. Coast Guard Headquarters, 2100 2nd Street, SW., Room 1218, Washington, DC 20593-0001 or by calling (202) 267-2970.

Dated: October 19, 2004.
Clay Diamond,
Executive Secretary, Shipping Coordinating Committee, Department of State.

[FR Doc. 04-23847 Filed 10-22-04; 8:45 am]

BILLING CODE 4710-07-P